DEPARTMENT OF ENERGY

Amended Record of Decision: Storage of Surplus Plutonium Materials at the Savannah River Site

AGENCY: Department of Energy.

ACTION: Amended Record of Decision.

SUMMARY: The U.S. Department of Energy (DOE) is amending the Record of Decision (ROD) for the Storage and Disposition of Weapons—Usable Fissile Materials Programmatic Environmental Impact Statement (DOE/EIS-0229, 1996; Storage and Disposition PEIS). Specifically, DOE has decided to take the actions necessary to transfer approximately 2,511 additional 3013-compliant packages ¹ containing surplus non-pit weapons-usable plutonium metals and oxides to the Savannah River Site (SRS), near Aiken, South Carolina. Approximately 2,300 containers will be transferred from the Hanford Site (Hanford) near Richland, Washington; 115 containers will be transferred from the Lawrence Livermore National Laboratory (LLNL) in California; and 96 containers will be transferred from the Los Alamos National Laboratory (LANL) in New Mexico. All 3013 containers will be shipped inside Type B shipping packages (e.g., 9975 packages) in Safe Secure Transports (SSTs). In addition, DOE could transfer the equivalent of about one thousand 3013 containers, in the form of unirradiated fuel assemblies originally intended for the Fast Flux Test Facility (FFTF) at Hanford, and miscellaneous fuel pins that that were not put into fuel assemblies, to the SRS.² At a lower priority and only if adequate storage space is available, DOE will transfer approximately five hundred additional 3013 containers from LLNL and LANL to provide operational flexibility in the laboratories and to alleviate the demands there on storage capacity needed to support nuclear weapons research missions. Surplus plutonium in 3013-compliant containers will be stored in the K-Area Material Storage (KAMS) facility and FFTF fuel will be stored in the K-Area complex.

¹ A container that complies with DOE-STD-3013, Stabilization, Packaging, and Storage of Plutonium-Bearing Materials.

² The use of FFTF and the unirradiated fuel currently at Hanford is being considered in conjunction with the evaluation of reasonable alternatives in the Global Nuclear Energy Partnership (GNEP) Programmatic EIS. The planned shipment of the FFTF unirradiated fuel to SRS is scheduled for the second half of Fiscal Year 2009. If FFTF is still being considered as part of GNEP following completion of the PEIS (expected in 2008), DOE may choose not to ship the unirradiated FFTF fuel to SRS.

This action will consolidate storage of surplus, non-pit weapons-usable plutonium from Hanford, LANL, and LLNL at SRS, pending disposition.³ DOE has prepared a Supplement Analysis (SA), Storage of Surplus Plutonium Materials at the Savannah River Site (DOE/EIS-0229-SA-4, August 2007), in accordance with DOE National Environmental Policy Act (NEPA) regulations (10 CFR 1021.314) to determine whether consolidated storage of this plutonium is a substantial change to the proposed action or whether there are significant new circumstances or information relevant to environmental concerns such that a supplemental EIS or a new EIS would be needed. Based on the SA, DOE has determined that no further review under NEPA is required.

³ Based on DOE's current surplus plutonium disposition plans, DOE expects to disposition the surplus plutonium stored in KAMs in less than 20 years. DOE has analyzed the potential environmental impacts of storage of such plutonium in KAMs for up to 50 years.

FOR FURTHER INFORMATION CONTACT: Copies of NEPA documents related to this decision, including this Amended ROD, are available on DOE's NEPA Web site at: http://www.eh.doe.gov/nepa. To request copies of these documents, please contact: The Center for Environmental Management Information, P.O. Box 23769, Washington, DC 202-586-3769, Telephone: 800-736-3282 (in Washington, DC: 202-863-5084).

For further information concerning the storage of surplus, non-pit plutonium at the SRS, contact: Andrew R. Grainger, NEPA Compliance Officer, Savannah River Operations Office, U.S. Department of Energy, P.O. Box B, Aiken, South Carolina 29802, Telephone: (803) 952-8001, E-mail: drew.grainger@srs.gov.

For information on DOE's NEPA process, contact: Ms. Carol M. Borgstrom, Director, Office of NEPA Policy and Compliance, GC-20, U.S. Department of Energy, 1000 Independence Avenue, SW., Washington, DC 20585-0119, (202) 586-4600, or leave a message at (800) 472-2756.

SUPPLEMENTARY INFORMATION:

Background

At the end of the Cold War, the United States declared large quantities of plutonium and uranium surplus to the defense needs of the nation. At that time, materials were in various forms and various stages of the material manufacturing and weapons fabrication processes and located at several weapons complex sites that DOE had operated in the preceding decades. DOE began the process of placing these materials in safe, stable configurations suitable for storage until disposition strategies could be developed and implemented. Through a series of decisions supported by appropriate NEPA analyses, DOE has decided to store surplus, non-pit, weapons-usable plutonium materials at SRS facilities pending disposition. DOE's Supplement Analysis, Storage of Surplus Plutonium Materials at the Savannah River Site, (DOE/EIS-0229-SA-4, August 2007), describes the NEPA reviews and DOE's decisions regarding transportation and storage of plutonium materials. Prior NEPA reviews and accompanying decisions that are directly related to today's decision are described in the following paragraphs.

In an April 19, 2002 (67 FR 19432), Amended Record of Decision (ROD), DOE announced its decision to immediately consolidate long-term storage in the K-Area Material Storage (KAMS) facility at SRS of surplus, non-pit plutonium from the Rocky Flats Environmental Technology Site (RFETS). In addition, DOE noted that cancellation of the then-planned immobilization facility for surplus plutonium disposition and the selection of the long-term storage alternative at SRS removed the basis for the contingency contained in previous RODs (which conditioned transport of surplus, non-pit plutonium from RFETS to SRS on the selection of SRS as the site for the immobilization facilities), and amended those RODs accordingly. DOE also stated that long-term storage of surplus plutonium and the ultimate disposition of that plutonium were separate actions, and that combining long-term storage and disposition was not required to implement either decision, and served no significant programmatic objective. Transfer of plutonium materials from RFETS to SRS was completed in 2003 and these materials are stored in 3013 containers inside 9975 shipping packages in the KAMS facility. In the 2002 Amended ROD, DOE left unchanged it's prior decision to store surplus, non-pit plutonium at Hanford, Idaho National Laboratory (INL), and LANL, pending disposition (or movement to lag storage at the disposition facility).⁴

⁴ DOE indicated in the Storage and Disposition PEIS ROD (DOE, 1997) that 0.3 metric tons of plutonium stored at LLNL was primarily research and development and operational feedstock material not surplus to government needs, and that the material would continue to be stored for use at LLNL. DOE has since determined that there is no programmatic need for this material, and that transferring the material to SRS for long-term storage would reduce surveillance costs at LLNL. In 1999, DOE determined that 3 to 4 metric tons of plutonium material will be retained at the Idaho National Laboratory for potential future use.

Following the events of September 11, 2001, DOE revised the threat criteria and the postulated capabilities of those who might perpetrate acts of violence against DOE assets. As a result of this new threat guidance, DOE determined that the consolidation of plutonium at SRS into one location—KAMS—and enhancement of the security of that location, would provide the most advantageous means to meet this challenge and assure the safety and security of the stored material. Therefore, DOE cancelled a project to install stored surveillance and stabilization capability to ensure compliance with DOE-STD-3013 in F-Area and decided to construct the K-Area Interim Surveillance (KIS) project and the Container Surveillance and Storage Capability (CSSC) project in the K-Area complex. DOE prepared an environmental assessment, Safeguards and Security Upgrades for Storage of Plutonium Materials at the Savannah River Site (DOE/EA-1538, December 2005) and issued a Finding of No Significant Impact (FONSI) in December of 2005, to address the impacts of these and related security projects. The EA addressed surplus plutonium materials in the SRS inventory as of December 2005. The KIS Project, which became operational in June 2007, and the CSSC project, which is currently scheduled for operations in 2010, will provide surveillance and stabilization capability and capacity for storage of 3013 containers outside of KAMS (but in the K-Area complex) adequate to support the surveillance program required by DOE-STD-3013.

Decision: Consistent with DOE's prior decision to reduce over time the number of locations where the various forms of plutonium are stored, DOE has decided to consolidate storage of surplus, non-pit, weapons-usable plutonium from Hanford, LANL, and LLNL at SRS, pending disposition. Following appropriate congressional notification, in accordance with section 3155 of the National Defense Authorization Act for Fiscal Year 2002 (Pub. L. 107-107), DOE will transfer, over a period of about two to three years, approximately 2,511 additional 3013-compliant packages ⁵ containing plutonium metals and oxides to SRS. Approximately 2,300 containers will be transferred from Hanford, 115 containers will be transferred from LLNL, and 96 containers will be transferred from LANL. All 3013 containers will be shipped inside Type B shipping packages (e.g., 9975 packages) in Safe Secure Transports (SSTs). All containers will be certified compliant with DOE-STD-3013 and Department of Transportation requirements prior to shipment, and DOE will acquire and obtain certification of additional shipping containers, if needed.

⁵ A 3013 container has a maximum capacity of about 4.4 kilograms of plutonium. However, few containers have the maximum amount of plutonium.

In addition, DOE could transfer the equivalent of about one thousand 3013 containers, in the form of unirradiated fuel assemblies and miscellaneous fuel pins originally intended for the Fast Flux Test Facility (FFTF) at Hanford, to the SRS.⁶ This material will be shipped in Type B shipping packages, in SSTs, and stored in the K-Area Complex in the Type B shipping packages, pending disposition. DOE will monitor the condition of the shipping packages while in storage to insure their integrity, including inspection of seals to monitor for corrosion or leakage. DOE will continue to store RFETS and SRS surplus, non-pit plutonium in approximately 2,800 containers inside Type B shipping packages at SRS. Storage will be in compliance with applicable Technical Safety Requirements (TSRs) and Safety Analysis Reports (SARs), and the total mass of stored plutonium will be significantly less than 15 metric tons. DOE has previously evaluated storage of non-pit surplus plutonium from RFETS and other DOE sites, as needed, in KAMS (Supplement Analysis for Storing Plutonium in the Actinide Packaging and Storage Facility and the Building K-105 at the Savannah River Site. (DOE/EIS-0229-SA-1, July 1998).

⁶ See footnote 2.

In addition, DOE will transfer approximately five hundred 3013 containers from LLNL and LANL to remove surplus inventory, provide operational flexibility, and to alleviate the demands there on storage capacity needed to support nuclear weapons research missions. This transfer will take place only if storage space is available in KAMS. Space is limited by the number of storage positions allowed in recognition of the spacing requirements dictated by the TSRs and SARs. DOE could increase the number of storage spaces by modifying the storage configuration after review, and revision as necessary, of the safety authorization basis.

DOE will use the KAMS facility for consolidated storage. Nearby areas of the K-Area complex, where the KIS is and CSSC will be located, will be used for surveillance and restabilization activities. Storage spaces necessary to support surveillance activities are available in the K-Area complex. Unirradiated FFTF fuel will also be stored in the K-Area complex.

Basis for Decision: DOE's decision to consolidate surplus plutonium at SRS will reduce the number of sites with special nuclear material; enhance the security of these materials; reduce the risk plutonium poses to the public and environment; reduce or avoid the costs associated with plutonium storage, surveillance and monitoring, and security at multiple sites; and relocate the material to DOE's planned site for surplus plutonium disposition. Plutonium consolidation has been encouraged by independent reviews of DOE's activities, including the Government Accountability Office (GAO) in its July 2005 report entitled Securing U.S. Nuclear Materials: DOE Needs to Take Action to Safely Consolidate Plutonium (GAO-05-665) and recently by the Defense Nuclear Facilities Safety Board (DNFSB). In its June 26, 2007, report to Congress, the DNFSB stated: “The Board believes consolidation of excess plutonium into a single, robust facility suitable for extended retrievable storage is logical from a safety perspective. DOE should aggressively pursue consolidation of its excess plutonium.” Furthermore, transferring within the next two to three years all the surplus plutonium currently at Hanford to SRS would enhance security and avoid the expenditure of about $200 million for security upgrades to be compliant with DOE's 2005 Design Basis Threat (DBT) guidance, as well as tens of millions of dollars more each year for security and monitoring to continue storing the material at Hanford.

Separately from the consolidation and storage activities DOE is announcing today, DOE is preparing a Supplemental Environmental Impact Statement for Surplus Plutonium Disposition at the Savannah River Site to evaluate the potential environmental impacts of alternative methods to disposition surplus, non-pit plutonium materials. The action alternatives identified in the Notice of Intent (72 FR 14543; March 28, 2007) for this Supplemental EIS involve: (1) A glass can-in-canister approach that would be installed in K-Area; (2) a ceramic can-in-canister approach that would be installed in K-Area; and (3) the Mixed Oxide (MOX) Fuel Fabrication Facility, currently under construction at SRS. In conjunction with any of these alternatives, DOE would utilize the existing H-Canyon and Defense Waste Processing Facility (DWPF) for the disposition of up to about four metric tons of surplus, non-pit plutonium materials. DOE's selection of one or more of these alternatives would ensure that surplus, weapons-usable plutonium that is currently at SRS, or that would be shipped to SRS as a result of the actions evaluated in this SA, would be placed in a form that would facilitate a disposition path out of South Carolina.

Supplement Analysis: DOE prepared a Supplement Analysis (Storage of Surplus Plutonium Materials at the Savannah River Site, (DOE/EIS-0229-SA-4, August 2007) to determine if consolidating storage at SRS of surplus, non-pit, weapons-usable plutonium from Hanford, LLNL, and LANL represented new circumstances or information requiring preparation of a supplemental EIS or a new EIS. The environmental impacts discussed in the SA are described in the following paragraphs.

Transportation

DOE will ship plutonium materials compliant with the DOE-STD-3013 in 3013 packages inside Type B shipping containers (e.g., 9975 containers) from Hanford, LLNL, and LANL to KAMS at SRS using SSTs. DOE will ship unirradiated FFTF fuel from Hanford to SRS in Type B shipping packages (e.g., the Hanford Un-irradiated Fuel Package) in SSTs. At KAMS, the 9975 containers will be received and stored; the 3013 packages will not be removed from the 9975 shipping containers. The Type B shipping packages containing the unirradiated FFTF fuel will be stored in the K-Area complex at SRS.

DOE previously evaluated the impacts of transporting 17 metric tons of non-pit, surplus plutonium to SRS in the Surplus Plutonium Disposition (SPD) EIS (DOE/EIS-0283, 1999), which addressed alternatives for disposition and was tiered from the Storage and Disposition PEIS. In the SPD EIS Alternative 3, DOE analyzed the transportation of surplus pit and non-pit plutonium to SRS. Table L-1 of the SPD EIS summarized the material shipments; included were surplus non-pit weapons-usable plutonium materials from Hanford, LLNL, LANL, RFETS, and INL (Argonne National Laboratory—West). The Hanford material specifically included FFTF fuel pins and assemblies. Alternative 3 included shipment of a greater quantity of surplus, non-pit plutonium materials to SRS than does the consolidation decision DOE is announcing today.

In the SPD EIS, DOE estimated that normal (incident-free) transportation operations could result in 0.024 latent cancer fatalities (LCF) among transportation workers and 0.034 LCF in the total affected population over the duration of the transportation activities. In preparing the SPD EIS, DOE used a dose conversion factor of 5 × 10−⁴ deaths per rem of dose to the affected population. Currently, DOE recommends a dose conversion factor of 6 × 10−⁴ deaths per rem. Using the currently recommended dose conversion factor, the estimated risk would be about 0.029 LCF among transport workers and about 0.041 LCF in the total affected population. In addition, DOE estimated that 0.019 nonradiological fatalities could occur as a result of vehicular emissions. DOE also estimated the impacts of accident scenarios, and in all cases the risk of a fatality is less than one. No accidents occurred during shipment of the RFETS plutonium to the SRS.

DOE has analyzed the impacts of transporting plutonium from Hanford, LLNL, and LANL (as well as INL and RFETS) to SRS in the SPD EIS. That analysis assumed that surplus non-pit plutonium would be transported in Type B containers in SSTs, just as DOE will do for the consolidation action announced today. DOE will make all shipments in shipping packages with current certificates, consistent with Department of Transportation requirements and DOE's prior NEPA reviews. The transportation required to implement this action is a subset of the transportation activities evaluated in the SPD EIS.

Storage

The KAMS facility requires no physical modification to accommodate the proposed storage of surplus, non-pit, weapons-usable plutonium from Hanford, LLNL, and LANL. The environmental impacts of storage of fissile material at SRS were presented in the Interim Management of Nuclear Materials EIS (DOE/EIS-0220, October 1995) and the Storage and Disposition PEIS. These two EISs contain calculated annual impacts presented over specific time periods. DOE also evaluated storage of surplus plutonium materials from RFETS and other sites, as needed, in 3013 containers inside Type B shipping containers in KAMS, and concluded that KAMS storage for up to 50 years did not represent significant new information relevant to environmental concerns, and that additional NEPA review was not required (DOE/EIS-0229-SA-01, 1998). The consolidated storage action DOE is announcing today involves the same forms of surplus plutonium and the same shipping and storage containers (which would be certified Type B containers), as DOE has previously analyzed.

DOE has initiated two projects to provide the stored plutonium surveillance and restabilization capability required as part of the monitoring program that is an integral part of DOE-STD-3013. The KIS project, which became operational in June 2007, provides limited, temporary surveillance capability until the CSSC project is completed. Current plans call for the CSSC to be operational in 2010. DOE completed an EA (DOE/EA-1538, December 2005) evaluating the impacts of construction and operation of KIS and CSSC in the K-Area complex (near but not in KAMS), and related security upgrades in K-Area. Storage space adequate for the needs of the KIS and CSSC surveillance activities are provided outside of KAMS and a limited number of 3013 containers will be temporarily stored without Type B shipping containers when CSSC becomes operational. DOE evaluated the impacts of these actions in the EA, and determined the impacts would not be significant (Finding of No Significant Impact (FONSI), (DOE/EA-1538, December 2005). While the inventory in KAMS will increase as a result of the transfer and storage of surplus non-pit plutonium from Hanford, LLNL, and LANL, the number of 3013 containers stored outside of KAMS, or undergoing surveillance activities requiring opening of the cans, will not increase. The number of cans undergoing surveillance activities is limited by the facility safety analysis and technical safety requirements, and neither would change as a result of storing more material in KAMS. Therefore, DOE's action is not different in regard to surveillance actions than those DOE has previously evaluated and found to be insignificant.

DOE has found no anomalous conditions in either the 3013 containers or the stored plutonium material in the DOE-STD-3013 surveillance program. Similarly, performance of the Type B shipping containers has been as expected, with no instances of unacceptable performance. The K-Area Structural Assessment Program, mentioned in the 2002 ROD, has not revealed any condition or degradation that would affect the structural integrity of the facility.

Unirradiated fuel from the FFTF facility at Hanford will be stored in Type B shipping packages in the K-Area transfer bay in the K-Area complex. Storage of FFTF fuel in Type B shipping containers in the K-Area transfer bay will provide a level of safety equivalent to that resulting from storage of plutonium in 3013 containers inside 9975 shipping packages in KAMS. In addition, DOE evaluated the storage of irradiated tritium-producing burnable absorber rods in Type B shipping containers (the same configuration for the storage of FFTF fuel) in the K-Area transfer bay (DOE/EA-1528, Storage of Tritium-Producing Burnable Absorber Rods in K-Area Transfer Bay at SRS, June 2005) and found the environmental impacts to be insignificant (FONSI, DOE/EA-1528, June 2005).

Intentional Destructive Acts

DOE provides substantial safeguards and security measures for both transportation and storage of plutonium. Safeguards and security are designed to prevent theft or diversion of materials, and to prevent exposure of workers and the public to radiation from the material during transportation and storage. DOE recognizes that an attack against surplus plutonium cargo may cause very undesirable consequences, such as release of radionuclides into the environment.

Following the events of September 11, 2001, DOE is continuing to consider and implement measures to minimize the risk and consequences of potential terrorist attacks on DOE facilities and activities. DOE conducts vulnerability assessments and risk analyses in accordance with DOE Order 470.3A, Design Basis Threat Policy and DOE Order 470.4A, Safeguards and Security Program. The safeguards applied to protecting the K-Area complex involve a dynamic process of enhancement to meet threats, and those safeguards will evolve over time. It is not possible to predict whether intentional destructive acts would occur at these locations, or the nature or types of attacks. Nevertheless, DOE has evaluated security scenarios involving malevolent or terrorist acts in an effort to assess potential vulnerabilities and identify improvements to security procedures and response measures. The physical security protection strategy is based on a graded and layered approach supported by a guard force trained to detect, deter, and neutralize adversary activities. Facilities are protected by staffed and automated access control systems, barriers, surveillance systems and intrusion detection systems.

Plutonium materials intended for consolidated storage would be received and stored in the K-Area Complex. DOE evaluated accident scenarios during storage of plutonium materials in the Interim Management of Nuclear Materials EIS (DOE/EIS-0220, October 1995). DOE finds that the accident impacts are representative of the potential impacts of intentional destructive acts against the facilities proposed for consolidated storage, particularly in light of the robust nature of the facilities themselves and the improved security and response measures that have been put in place in recent years.

In the SPD EIS, DOE evaluated the impacts of a severe accident while transporting plutonium oxide material in Type B shipping containers in Safe Secure Transports (SSTs). The hypothetical accidents modeled for the impact assessment involve either a long-term fire or tremendous impact of crushing forces. In the case of crushing forces, a fire would have to be burning in order to spread the plutonium as modeled. These accidents were assumed to cause a ground-level release of 10 percent of the radioactive material in the SST. These accidents fall within the Nuclear Regulatory Commission's severity Category VIII, with an accident frequency in rural areas of about 1 × 10−⁷ per year (once in 10 million years). DOE estimated that if such an accident were to occur in an urban area as many as 114 cancer fatalities could result. In addition, the accident itself would cause a number of non-radiological fatalities, depending upon the specific circumstances.

In reviewing the nature and consequences of the accident scenarios described in the SPD EIS, DOE finds that the consequences bound the consequences of a hypothetical terrorist attack on an SST carrying surplus non-pit plutonium. Because of the robust nature of the Type B containers and the SSTs, and because shipments are protected, DOE finds it unlikely that an attack could generate the forces required to release as much material as postulated for a severe accident. Therefore, DOE expects the potential consequences of a terrorist attack on a shipment of surplus, non-pit plutonium to be equal to or less than those of a severe accident.

Defense Nuclear Facilities Safety Board Report to Congress

In December 2003, the Defense Nuclear Facilities Safety Board (DNFSB) issued a Report to Congress on Plutonium Storage at the Department of Energy's Savannah River Site. The DNFSB is an independent Federal agency chartered by Congress to provide recommendations to the Department of Energy on the safety of defense nuclear facilities. The Board's report contains proposals for enhancing the safety, reliability, and functionality of plutonium storage at SRS; one proposal concerns KAMS and four concern F-Area. However, subsequent to issuance of the Board's report, DOE decided to utilize only KAMS and the K-Area complex for storage of plutonium and for future stabilization and packaging operations, and to deinventory F-Area of all plutonium prior to the end of 2006.

With respect to KAMS, the Board proposed that fire protection systems be installed and that unnecessary combustibles be eliminated. In response to this proposal, the Department determined that fire suppression equipment would be installed in the Neutron Multiplicity Counting Room of KAMS, fire detection equipment would be installed throughout KAMS, and the cable combustible load in the actuator tower above KAMS would be removed. DOE completed removal of the actuator tower cables in August 2006. DOE plans to begin installation of a fire detection system in KAMS in 2007 and complete it in 2008. DOE also plans to begin installation of a fire suppression system in the Neutron Multiplicity Counting Room in 2008 and complete the installation in 2009.

In addition, the fire protection posture designed into KAMS was to minimize both transient and fixed combustibles within the facility such that the remaining worst possible fire could not cause a release of plutonium. The walls separating the KAMS facility from the remainder of the K-Reactor building were fabricated into a two-hour fire boundary. Combustibles outside the facility fire boundaries were minimized, contained, or mitigated to ensure the KAMS facility fire boundaries were rated longer than any credible fire would burn.

Supplement Analysis Conclusion And Determination: DOE has fully evaluated transportation of surplus, non-pit plutonium materials for SRS and storage at SRS of such materials from Hanford and LANL in the Storage and Disposition PEIS and SPD EIS. The action announced today, consolidated storage of surplus, non-pit plutonium materials at SRS, including transportation of the materials to SRS, is addressed in the Storage and Disposition PEIS, the SPD EIS, and other NEPA reviews addressed above. DOE evaluated the potential impacts of conducting plutonium surveillance and stabilization activities required by DOE-STD-3013 in the Environmental Assessment for the Safeguards and Security Upgrades for Storage of Plutonium Materials at the Savannah River Site, and found the impacts to be insignificant. Some of these documents are now 10 or more years old. However, DOE has reviewed the analyses and assumptions relevant to the potential environmental impacts of the actions described herein and found any changes to be insignificant.

DOE's 2007 SA shows that the potential environmental impacts associated with the further consolidation of surplus non-pit, weapons-usable plutonium from Hanford, LLNL and LANL would not be a significant change from the potential environmental impacts associated with the alternatives analyzed in previous NEPA reviews. DOE is not proposing a substantial change that is relevant to environmental concerns. No significant new circumstances or information bearing on the proposed action and relevant to environmental concerns are presented by the proposed consolidation of plutonium storage. Therefore, DOE does not need to conduct additional NEPA review prior to transferring surplus non-pit plutonium materials from Hanford, LLNL, and LANL to SRS for consolidated storage pending disposition, as described above.

Issued in Washington, DC, this 5th day of September, 2007.
James A. Rispoli,
Assistant Secretary for Environmental Management.

[FR Doc. E7-17840 Filed 9-10-07; 8:45 am]

BILLING CODE 6450-01-P